FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than August 6, 2007.

A. Federal Reserve Bank of Cleveland (Douglas A. Banks, Vice President) 1455 East Sixth Street, Cleveland, Ohio 44101-2566:

1. Fifth Third Bancorporation, and its wholly-owned subsidiary, Fifth Third Financial Corporation, both of Cincinnati, Ohio; to acquire 100 percent of the voting shares of R-G Crown Bank, National Association, Augusta, Georgia, upon the conversion of R-G Crown Bank, FSB, to a bank.

In connection with this proposal, Fifth Third Bancorp, and Fifth Third Financial Corp, also have applied to acquire 100 percent of the voting shares of R-G Crown Bank, FSB, Casselberry, Florida, and thereby engage in owning and operating a savings association, pursuant to section 225.28(b)(4)(ii) of Regulation Y.

B. Federal Reserve Bank of Minneapolis (Jacqueline G. King, Community Affairs Officer) 90 Hennepin Avenue, Minneapolis, Minnesota 55480-0291:

1. John T. Vucurevich Foundation, Rapid City, South Dakota; to become a bank holding company by acquiring 84.48 percent of the Class B common stock and 11.85 percent of the Class A common stock of United Bancorporation, and thereby indirectly acquire United Bank, both of Osseo, Wisconsin; Cambridge State Bank, Cambridge, Wisconsin; Lincoln Community Bank, Merrill, Wisconsin; Bank of Poynette, Poynette, Wisconsin; Clark County State Bank, Osceola, Iowa; Farmers State Bank, Stickney, South Dakota; and Farmers & Merchants State Bank, Iroquois, South Dakota.

C. Federal Reserve Bank of Kansas City (Todd Offenbacker, Assistant Vice President) 925 Grand Avenue, Kansas City, Missouri 64198-0001:

1. The Protection Bank Holding Company, Inc., Protection, Kansas; to acquire up to 100 percent of the voting shares of Citizens State Bank of Ashland, Kansas.

Board of Governors of the Federal Reserve System, July 6, 2007.
Robert deV. Frierson,
Deputy Secretary of the Board.

[FR Doc. E7-13404 Filed 7-10-07; 8:45 am]

BILLING CODE 6210-01-S